FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer—Cindy Ayouch—Division of Research and Statistics, Board of Governors of the Federal Reserve System, Washington, DC 20551 (202-452-3829).

OMB Desk Officer—Shagufta Ahmed —Office of Information and Regulatory Affairs, Office of Management and Budget, New Executive Office Building, Room 10235, Washington, DC 20503.

Final approval under OMB delegated authority of the extension for three years, with revision, of the following report:

Report title: Domestic Finance Company Report of Consolidated Assets and Liabilities.

Agency form number: FR 2248.

OMB control number: 7100-0005.

DATES: Effective Date: December 31, 2010.

Frequency: Monthly, Quarterly, and Semi-annually.

Reporters: Domestic finance companies and mortgage companies.

Estimated annual reporting hours: 350 hours.

Estimated average hours per response: Monthly, 20 minutes; Quarterly, 30 minutes; Semi-annually, 10 minutes.

Number of respondents: 70.

General description of report: This information collection is authorized pursuant the Federal Reserve Act (12 U.S.C. 225(a)). Obligation to respond to this information collection is voluntary. Individual respondent data are confidential under section (b)(4) of the Freedom of Information Act (5 U.S.C. 552).

Abstract: The FR 2248 is collected monthly as of the last calendar day of the month from a stratified sample of finance companies. Each monthly report collects balance sheet data on major categories of consumer and business credit receivables and on major short-term liabilities. For quarter-end months (March, June, September, and December), additional asset and liability items are collected to provide a full balance sheet. A supplemental section collects data on securitized assets. The data are used to construct universe estimates of finance company holdings, which are published in the monthly statistical releases Finance Companies (G.20) and Consumer Credit (G.19), in the quarterly statistical release Flow of Funds Accounts of the United States (Z.1), and in the Federal Reserve Bulletin (Tables 1.51, 1.52, and 1.55).

Current Actions: On September 13, 2010, the Federal Reserve published a notice in the Federal Register (75 FR 55579) requesting public comment for 60 days on the extension, with revision, of the Domestic Finance Company Report of Consolidated Assets and Liabilities. The comment period for this notice expired on November 12, 2010. The Federal Reserve did not receive any comments. The revisions will be implemented as proposed.

Final approval under OMB delegated authority of the implementation of the following survey:

Report title: Survey of Finance Companies.

Agency form number: FR 3033s.

OMB control number: 7100-0277.

Dates: Effective Date: December 31, 2010.

Frequency: One-time.

Reporters: Finance companies and mortgage companies.

Estimated annual reporting hours: 2,700 hours.

Estimated average hours per response: 1.5 hours.

Number of respondents: 1,800.

General description of report: This information collection is authorized pursuant the Federal Reserve Act (12 U.S.C. 225a, 263, and 355-59).

Obligation to respond to this information collection is voluntary. Individual respondent data are confidential under section (b)(4) of the Freedom of Information Act (5 U.S.C. 552).

Abstract: This information collection is a two-stage survey of finance and mortgage companies. The first stage is a simple questionnaire (FR 3033p) that is sent to all known domestic finance and mortgage companies and that asks for information about each company's total net assets, areas of specialization, and other characteristics. From the questionnaire respondents, the Federal Reserve draws a stratified random sample of finance and mortgage companies for the second stage, the survey itself (FR 3033s). The survey requests detailed information from both sides of the respondents' balance sheets. The Federal Reserve Board initiates data collection and analysis, and staff at the Federal Reserve Banks follow up on data quality issues, collect data from late FR 3033s, and resolve other outstanding questions.

Current Actions: On September 13, 2010, the Federal Reserve published a notice in the Federal Register (75 FR 55579) requesting public comment for 60 days on the implementation of the Survey of Finance Companies. The comment period for this notice expired on November 12, 2010. The Federal Reserve did not receive any comments. The survey will be conducted as proposed.

Jennifer J. Johnson,
Secretary of the Board.

[FR Doc. 2010-29454 Filed 11-22-10; 8:45 am]

BILLING CODE 6210-01-P